DEPARTMENT OF LABOR

Occupational Safety and Health Administration

[Docket No. OSHA-2016-0022]

Bay Area Compliance Laboratories Corp.: Grant of Recognition as a Nationally Recognized Testing Laboratory

AGENCY: Occupational Safety and Health Administration (OSHA), Labor.

ACTION: Notice.

SUMMARY: In this notice, OSHA announces its final decision to grant recognition to Bay Area Compliance Laboratories Corp. as a Nationally Recognized Testing Laboratory (NRTL) .

DATES: Recognition as a NRTL becomes effective on April 6, 2017.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: meilinger.francis2@dol.gov.

General and technical information: Contact Mr. Kevin Robinson, Director, Office of Technical Programs and Coordination Activities, Directorate of Technical Support and Emergency Management, Occupational Safety and Health Administration, U.S. Department of Labor, 200 Constitution Avenue NW., Room N-3655, Washington, DC 20210; telephone: (202) 693-2110; email: robinson.kevin@dol.gov. OSHA's Web page includes information about the NRTL Program (see http://www.osha.gov/dts/otpca/nrtl/index.html).

SUPPLEMENTARY INFORMATION:

I. Background

Many of OSHA's workplace standards require that a NRTL test and certify certain types of equipment as safe for use in the workplace. NRTLs are independent laboratories that meet OSHA's requirements for performing safety testing and certification of products used in the workplace. To obtain and retain OSHA recognition, the NRTLs must meet the requirements in the NRTL Program regulations at 29 CFR 1910.7. More specifically, to be recognized by OSHA, an organization must: (1) Have the appropriate capability to test, evaluate, and approve products to assure their safe use in the workplace; (2) be completely independent of employers subject to the tested equipment requirements, and manufacturers and vendors of products for which OSHA requires certification; (3) have internal programs that ensure proper control of the testing and certification process; and (4) have effective reporting and complaint handling procedures. Recognition is an acknowledgement by OSHA that the NRTL has the capability to perform independent safety testing and certification of the specific products covered within the NRTL's scope of recognition, and is not a delegation or grant of government authority. Recognition of a NRTL by OSHA also allows employers to use products certified by that NRTL to meet those OSHA standards that require product testing and certification.

The Agency processes applications for initial recognition following requirements in Appendix A of 29 CFR 1910.7. This appendix requires OSHA to publish two notices in the Federal Register in processing an application. In the first notice, OSHA announces the application, provides its preliminary finding, and solicits comments on its preliminary findings. In the second notice, the Agency provides its final decision on the application. These notices set forth the NRTL's scope of recognition.

II. Notice of Final Decision

OSHA hereby gives notice of the Agency's decision to grant recognition to Bay Area Compliance Laboratories Corp. (BACL), as a NRTL. According to its application, BACL was incorporated in 1996 to provide product compliance testing services to customers in the areas of Product Safety, Electromagnetic Compatibility and Telecommunications, testing for Emissions, Immunity, Radio, Radio Frequency (RF) Exposure and Telecommunications. The non-profit, third-party, non-governmental accreditation body A2LA accredited BACL for UL 60950-1, the standard for which BACL requests NRTL recognition. In its application, BACL lists the current address of its headquarters as: Bay Area Compliance Laboratories Corp., 1274 Anvilwood Avenue, Sunnyvale, California 94089.

Each NRTL's scope of recognition includes: (1) The type of products the NRTL may test, with each type specified by its applicable test standard; and (2) the recognized site(s) that have the technical capability to perform the product-testing and product-certification activities for the applicable test standards within the NRTL's scope of recognition. BACL applied for initial recognition as a NRTL on April 30, 2015, and revised its application on May 12, 2016. In its application, BACL requested recognition for one test standard and one site (OSHA-2016-0022-0003 and 0004). OSHA published the preliminary notice announcing BACL's application for recognition in the Federal Register on December 16, 2016 (81 FR 91201). The Agency requested comments by January 17, 2017, but it received no comments in response to this notice. OSHA now is proceeding with this final notice to grant recognition to BACL as a NRTL.

To obtain or review copies of all public documents pertaining to BACL's application, go to www.regulations.gov or contact the Docket Office, Occupational Safety and Health Administration, U.S. Department of Labor, 200 Constitution Avenue NW., Room N-2625, Washington, DC 20210. Docket No. OSHA-2016-0022 contains all materials in the record concerning BACL's recognition.

III. Final Decision and Order

OSHA staff performed a detailed analysis of BACL's application packet and reviewed other pertinent information. OSHA staff also performed a comprehensive on-site assessment of BACL's testing facilities on May 9-11, 2016. Based on its review of this evidence, OSHA finds that BACL meets the requirements of 29 CFR 1910.7 for recognition as a NRTL, subject to the limitations and conditions listed below. OSHA, therefore, is proceeding with this final notice to grant recognition to BACL as a NRTL. The following sections set forth the scope of recognition included in BACL's grant of recognition.

A. Standards Requested for Recognition

OSHA limits BACL's scope of recognition to testing and certification of products for demonstration of conformance to the test standard listed in Table 1 below.

Table 1—Appropriate Test Standard for Inclusion in BACL's NRTL Scope of Recognition
Test standard | Test standard title
UL 60950-1 | Information Technology Equipment-Safety-Part 1: General Requirement.

OSHA's recognition of any NRTL for a particular test standard is limited to equipment or materials for which OSHA standards require third-party testing and certification before using them in the workplace. Consequently, if a test standard also covers any products for which OSHA does not require such testing and certification, an NRTL's scope of recognition does not include these products.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

B. Sites Requested for Recognition

OSHA limits BACL's scope of recognition to include the site at Bay Area Compliance Laboratories Corp., 1274 Anvilwood Avenue, Sunnyvale, California 94089. OSHA's recognition of this site limits BACL to performing product testing and certifications only to the test standards for which the site has the proper capability and programs, and for the test standard in BACL's scope of recognition. This limitation is consistent with the recognition that OSHA grants to other NRTLs that operate multiple sites.

C. Conditions

In addition to those conditions already required by 29 CFR 1910.7, BACL also must abide by the following conditions of the recognition:

1. BACL must inform OSHA as soon as possible, in writing, of any change of ownership, facilities, or key personnel, and of any major change in its operations as a NRTL, and provide details of the change(s);

2. BACL must meet all the terms of its recognition and comply with all OSHA policies pertaining to this recognition; and

3. BACL must continue to meet the requirements for recognition, including all previously published conditions on BACL's scope of recognition, in all areas for which it has recognition.

Pursuant to the authority in 29 CFR 1910.7, OSHA hereby grants recognition to BACL as an NRTL, subject to these limitations and conditions specified above.

IV. Authority and Signature

Dorothy Dougherty, Deputy Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on March 31, 2017.
Dorothy Dougherty,
Deputy Assistant Secretary of Labor for Occupational Safety and Health.

[FR Doc. 2017-06870 Filed 4-5-17; 8:45 am]

BILLING CODE 4510-26-P